DEPARTMENT OF TRANSPORTATION

Bureau of Transportation Statistics

Advisory Council on Transportation Statistics; Notice of Meeting

AGENCY: Bureau of Transportation Statistics (BTS), DOT.

ACTION: Notice.

This notice announces, pursuant to Section 10(A)(2) of the Federal Advisory Committee Act (FACA) (Pub. L. 72-363; 5 U.S.C. app. 2), a meeting of the BTS Advisory Council on Transportation Statistics (ACTS). The meeting will be held on Tuesday, May 14, 2002, from 10 a.m. to 4 p.m. The meeting will take place at the U.S. Department of Transportation, 400 Seventh Street, SW., Washington DC, on the 2nd Floor, in Conference Room 2230 of the Nassif Building.

The ACTS, established under Section 6007 of Public Law 102-240, Intermodal Surface Transportation Efficiency Act of 1991, December 18, 1991, and chartered on June 19, 1995, was created to advise the Director of BTS on transportation statistics and analyses, including whether or not the statistics and analysis disseminated by the BTS are of high quality and are based upon the best available objective information.

The following is a summary of the meeting's agenda: (1) Introduction and Director's Report; (2) Reauthorization Update; (3) BTS's 10th Anniversary Celebration; (4) TranStats demonstration; (5) Presentation on the Role of Transportation Statistics in National Security Policy; (6) Update on the BTS Confidentiality Policy; (7) Closing Remarks (Closing comments from ACTS members, discussion and agreement of date(s) and agenda items for subsequent meeting(s) and public comments).

Based on a recent General Services Administration rule (66 FR 37728) amending 41 CFR part 102-3, I am designating Ms. Phyllis Seville as the Committee Management Officer (CMO) and Ms. Laura McClure as Designated Federal Officer (DFO) for the ACTS.

Since access to the DOT building is controlled, all persons who plan to attend the meeting must notify Ms. Phyllis Seville, CMO at (202) 366-9510 prior to Friday, May 10, 2002.

Individuals attending the meeting must report to the SW. Lobby of the Nassif Building for admission to the building. Attendance is open to the public, but limited space is available. With the approval of the Chair, members of the public may present oral statements at the meeting. Non-committee members wishing to present oral statements or obtain information should also contact Ms. Seville.

Questions about the agenda or written comments may be submitted by U.S. Mail to: U.S. Department of Transportation, Attention: Ms. Laura McClure, Designated Federal Officer, BTS, Room 3103, 400 Seventh St. SW., Washington, DC 20590 or faxed to (202) 366-3640, Attention: Ms. Laura McClure. BTS requests that written comments be submitted prior to the meeting.

Persons with a disability requiring special services, such as an interpreter for the hearing impaired, should contact Ms. Seville at (202) 366-9510 at least seven calendar days prior to the meeting.

Notice of this meeting is provided in accordance with the FACA and the General Service Administration regulations (41 CFR part 102-3) covering management of Federal advisory committees.

Issued in Washington, DC, on April 24, 2002.
Ashish Sen,
Director, Bureau of Transportation Statistics.

[FR Doc. 02-10574 Filed 4-29-02; 8:45 am]

BILLING CODE 4910-HY-P